DEPARTMENT OF LABOR

Employment and Training Administration

[TA-W-65,719]

AGC Flat Glass North America, Inc., Kingsport Corporate Services Office, Kingsport, TN; Notice of Termination of Investigation

Pursuant to Section 221 of the Trade Act of 1974, as amended, an investigation was initiated on March 31, 2009 in response to a petition filed by a company official on behalf of the workers of AGC Flat Glass North America, Inc., Kingsport Corporate Services Office, Kingsport, Tennessee.

The petitioner has requested that the petition be withdrawn. Consequently, the investigation has been terminated.

Signed at Washington, DC, this 27th day of April 2009.
Richard Church,
Certifying Officer, Division of Trade Adjustment Assistance.

[FR Doc. E9-11870 Filed 5-20-09; 8:45 am]

BILLING CODE 4510-FN-P